DEPARTMENT OF LABOR

Employment and Training Administration

[TA-W-52,801]

Springs Industries, Inc., Grace Fabrication Plant, Lancaster, SC; Notice of Termination of Investigation

Pursuant to section 221 of the Trade Act of 1974, as amended, an investigation was initiated on September 11, 2003, in response to a worker petition filed by a company official on behalf of workers at Spring Industries, Inc., Grace Fabrication Plant, Lancaster, South Carolina.

The petitioning group of workers is covered by an earlier petition filed on September 10, 2003 (TA-W-52,788B), that is the subject of an ongoing investigation for which a determination has not yet been issued. Further investigation in this case would duplicate efforts and serve no purpose; therefore the investigation under this petition has been terminated.

Signed at Washington, DC, this 22nd day of September, 2003.
Richard Church,
Certifying Officer, Division of Trade Adjustment Assistance.

[FR Doc. 03-27437 Filed 10-30-03; 8:45 am]

BILLING CODE 4510-30-P